DEPARTMENT OF HEALTH AND HUMAN SERVICES

Announcement of Availability of Funds for Adolescent Family Life Research Grants

AGENCY: Department of Health and Human Services, Office of the Secretary, Office of Public Health and Science, Office of Population Affairs.

ACTION: Notice.

AUTHORITY: Section 2008 of the Public Health Service (PHS) Act.

EXECUTIVE SUMMARY: The Office of Population Affairs (OPA) requests applications for grants for applied research addressing Adolescent Family Life (AFL) program goals related to adolescent sexual relations, pregnancy, and parenthood: Helping adolescents avoid health risk behaviors; ensuring that adolescents have the supports necessary to pursue healthy and productive lives; and strengthening families. Grant awards will be made to investigate one or more of the following seven areas: (1) Parent involvement and communication; (2) youth development/developmental assets; (3) pro-social risk behaviors; (4) adoption; (5) adolescent parents; (6) long term impact of adolescent childbearing on family structure; and (7) influences on adolescent premarital sexual behavior.

DATES: To receive consideration, a package containing a signed typewritten application, including the checklist, and two photocopies of the application must be received at the address below no later than July 22, 2003.

ADDRESSES: The application package described above must be submitted to: Center for Scientific Review, National Institutes of Health, 6701 Rockledge Drive, Room 1040-MSC 7710, Bethesda, MD 29892-7710 (20817 for express/courier service).

SUPPLEMENTARY INFORMATION: Title XX of the Public Health Service Act, in section 2008 (42 U.S.C. 300z-7), authorizes research concerning the societal causes and consequences of adolescent premarital sexual relations, pregnancy and child rearing. The statute also provides authority for research to identify effective services which alleviate, eliminate, or resolve any negative consequences of adolescent premarital sexual relations and adolescent childbearing for the parents, the child, and their families. Regulations pertaining to grants for research projects are set out at 42 CFR part 52.

CFDA: A description of the Title XX Adolescent Family Life Research Grant Program can be found at OMB Catalogue of Federal Domestic Assistance No. 93.111.

I. Funding Opportunity Description

This announcement seeks proposals for grants for applied research addressing AFL program goals related to adolescent premarital sexual relations, pregnancy, and parenthood: Helping adolescents avoid health risk behaviors; ensuring that adolescents have the supports necessary to pursue healthy and productive lives; and strengthening families.

Background

The Adolescent Family Life (AFL) Program was enacted in 1981 as title XX of the Public Health Service Act. The program supports two types of demonstration projects: (1) Prevention demonstration projects to develop, implement, and evaluate programs that provide sexuality education designed to prevent adolescent premarital sexual relations and other health risk behaviors; and (2) care demonstration projects to develop, implement and evaluate interventions (including presenting adoption as an option) with pregnant and parenting adolescents including fathers, their infants, and other family members in an effort to alleviate the negative consequences of adolescent childbearing. The program is also authorized to conduct both basic and applied research on the causes and consequences of adolescent premarital sexual relations, adolescent pregnancy and parenting.

Purposes of the Grant

The purpose of this grant is to expand the research base in a number of areas that are directly applicable to prevention and care program interventions for adolescents. To that end, this announcement invites applications in one or more of the following areas:

1. Parent Involvement and Communication. Research has shown the importance of parents' involvement with their children and open communication between parent and child in the prevention of adolescent premarital sexual activity, pregnancy and sexually transmitted infection, as well as other adolescent risk behaviors. Many interventions designed to reduce these risks have thus added specific components for parents. Unfortunately, efforts to enroll and retain parents in these programs have too often been unsuccessful. Careful examination of recruitment strategies, and the interventions themselves, should provide insights on how to more effectively implement these program components. Research questions of interest include, but are not limited to:

• Factors that affect recruitment and retention of parents in prevention programs for adolescents.

• Evaluations of strategies or interventions designed to assist parents in effectively communicating with their children about sexuality issues.

• Mechanisms and/or venues for educating parents on adolescent development, the importance of parental expectations and boundary setting, and sexuality issues.

2. Youth Development/Developmental Assets. The Youth Development or Developmental Assets approach, either by itself or in combination with sexuality education, is increasingly used in programs designed to prevent adolescent sexual activity, pregnancy and sexually transmitted infection or other risk behaviors and negative outcomes. Strategies encompass strengthening families, fostering lasting relationships with adult mentors, involving youth in community service, promoting connectedness with school, providing opportunities to engage in sports and cultural activities, building confidence and self-efficacy; all are designed to strengthen supports, either internal or external, for youth as they transition to adulthood. Research questions of interest include, but are not limited to:

• Incorporating youth development concepts into risk avoidance interventions for adolescents.

• Impact of youth development strategies on adolescent premarital sexual relations and other health risk behaviors.

• Impact of youth development strategies (e.g., education, vocational training, employment) on transition to self-sufficiency and other positive outcomes for adolescent parents.

3. Pro-Social Risk Behaviors. It is well established that some amount of risk taking in adolescence is normative in that it helps define and develop identity. While risk taking is part of the normal developmental spectrum for adolescents, risk behaviors fall into two broad categories: Those that are associated with negative consequences such as drug, tobacco and alcohol use, sexual activity and violence as opposed to those that are associated with more positive outcomes—pro-social risk behaviors such as athletics, academic endeavors, or community service. Research questions of interest include, but are not limited to:

• The impact on adolescent sexual behavior of programs offering pro-social risk behavior activities.

• Whether adolescents actively reject taking negative health risks when offered appealing pro-social risk behavior activities.

• Whether offering pro-social risk behavior activities can reverse established negative risk behaviors.

4. Adoption. Adoption is a positive option for unmarried pregnant adolescents who are unable to care for their infants, yet available data indicate this option is seldom chosen. Prior research suggests that attitudes about adoption—by family members, the father of the infant, the pregnant adolescent herself, or the professional providing counseling—can often have great influence on the young mother's decision-making. Other factors of importance include the costs and benefits of the adoption decision for all involved, as well as the implications of the various types of adoption that are available. Areas of inquiry include, but are not limited to:

• Social, psychological, legal and service dimensions of adoption decision-making.

• Social, economic, and/or psychological effects of adoption on the adolescent mother, the child, and/or the adoptive family.

• Usage and differential outcomes for the adolescent mother, the child, and/or the adoptive family among formal, informal, closed and open adoption arrangements.

5. Adolescent Parents. The consequences of adolescent pregnancy and parenthood are well documented. Adolescent parents are less likely to complete their schooling, their employment prospects and income are concomitantly reduced, and they are more likely to be single parents. In addition, their children are more likely to have poor health status, poor educational outcomes, behavior problems, and to become adolescent parents themselves than are children born to older parents. Appropriate and adequate services for these adolescent parents and their children, however, do hold some promise for ameliorating these disadvantages. Research questions of interest include, but are not limited to:

• Preparation for building committed adult relationships and strong marriages.

• Evaluation of strategies or interventions to provide necessary support services (e.g., health, education, social) to adolescent parents and their children.

• Factors influencing continuation of schooling for adolescent parents and/or evaluation of strategies to promote school retention or return for adolescent parents.

• Factors influencing successful parenting by adolescents and/or evaluation of strategies to promote successful parenting by adolescents.

6. Long Term Impact of Adolescent Childbearing on Family Structure. The negative impact of adolescent pregnancy and childbearing on schooling, employment, income and health are well documented in the research literature. Another important area of inquiry, not as well studied, is the effect of adolescent parenthood on the structure and function of the young families created by this early, and most often, out-of-wedlock childbearing. Research topics of interest include, but are not limited to:

• The impact of adolescent out-of-wedlock childbearing on the likelihood of marriage and the stability of marriage.

• Types of support systems and their viability, other than marriage, for adolescent parents.

• The level of satisfaction with parenting, over time, experienced by adolescent parents.

7. Influences on Adolescent Premarital Sexual Behavior. An important component in developing effective interventions to prevent adolescent premarital sexual activity, pregnancy and sexually transmitted infection is an understanding of the factors that influence adolescent sexual behavior. While research over the past few decades has contributed substantially to this understanding, the complexity and variability of these factors—and the interplay among them—still warrants continued study. For the purposes of this announcement, such factors include, but are not limited to:

• Demographic, economic, social and psychological characteristics of the adolescent.

• Family, peers, media, and other social factors.

• An older sibling who is an adolescent parent.

• Community, neighborhood, school, faith-based organizations and other social institutions.

II. Award Information

The OPA intends to make available approximately $750,000 in Fiscal Year (FY) 2003 to support an estimated 3 to 4 new research grants, up to a maximum of $250,000 each—including both direct and indirect costs. Section 2008(a)(3) of the Public Health Service Act stipulates that a grant for any one year period may not exceed $100,000 for the direct costs of conducting research activities. However, this limitation may be waived if we determine that exceptional circumstances warrant such waiver and that the project will have national impact. (Although section 2008(a)(3) also allows for waiver of this limitation where limited demonstration projects are conducted in order to provide data for research, the OPA does not intend to fund such projects under this announcement.) OPA intends to fund research under this announcement only if it will have national impact. Therefore, applications will be reviewed for research that will have national impact and, in cases where direct costs exceed the $100,000 limit, whether the applicant has established that those costs constitute an exceptional circumstance because they are necessary to carry out the research project.

Grants will be funded in annual increments (budget periods) and may be funded for a project period of up to three years. A match of non-Federal funds will not be required. Funding for all approved budget periods beyond the first year is contingent upon the availability of funds, satisfactory progress on the project, and adequate stewardship of Federal funds.

The OPA, subject to the availability of funds, intends to convert this Request for Applications (RFA) to a Standing Announcement, with one annual application receipt date of January 15, beginning in FY 2004.

III. Eligibility Information

Any public agency or private non-profit or for-profit organization or institution of higher education which may be located in any State, the District of Columbia, or any United States territory, commonwealth, or possession, is eligible to apply for a grant under this announcement. Faith-based organizations are eligible to apply for these Adolescent Family Life research grants.

IV. Application and Submission Information

Applications must be submitted on the research application form PHS 398 (revised 5/01) available in the business or grants and contracts office at most academic and research institutions; this form is also available online at: http://grants1.nih.gov/grants/oer.htm.

Applicants are encouraged to read all PHS Form 398 instructions prior to preparing an application in response to this announcement.

As explained in the form PHS 398 instructions, the RFA label, available in the PHS 398 application form, must be stapled to the bottom of the face page of the application and must display the RFA title. In addition, the RFA title must be typed on line 2 of the face page of the application form and the YES box must be marked.

To receive consideration, applications must be received by the Center for Scientific Review, NIH, by the deadline listed in the Dates section of this announcement, July 22, 2003. Applications will be considered as meeting the deadline if they are postmarked on or before the deadline date and are received in time for orderly processing. A legibly dated receipt from a commercial carrier or U.S. Postal Service will be accepted in lieu of a postmark. Private metered postmarks will not be accepted as proof of timely mailing. Applications meeting the eligibility criteria, application content criteria and deadline will be notified via the PHS-3038-1, Application Receipt Record. Applications that do not meet the deadline will not be accepted for review, and will be returned. Applications sent via facsimile or by electronic mail will not be accepted for review.

Prospective applicants are asked to submit a letter of intent that includes a descriptive title of the proposed research, the name, address, and telephone number of the Principal Investigator, and the title of this RFA. Although a letter of intent is not required, is not binding, and does not enter into the review of a subsequent application, the information that it contains allows OPA staff to estimate the potential review workload and plan the review.

The letter of intent should be sent to Eugenia Eckard, at the address listed under the “Agency Contacts” section below, by June 23, 2003.

Review Under Executive Order 12372

This program is not subject to the review requirements of Executive Order 12372, “Intergovernmental Review of Federal Programs.”

Program Requirements/Application Content

This notice seeks applications for applied research addressing Adolescent Family Life program goals. Applications should include the following:

(1) A well-organized statement of the problem to be addressed;

(2) A detailed description of the research design;

(3) The conceptual framework within which the design has been developed;

(4) The methodology to be employed;

(5) The evidence upon which the analysis will rely; and

(6) The manner in which the evidence will be analyzed.

Applications should also clearly address how findings from the proposed study will have direct application for programs designed to prevent premarital adolescent sexual activity and promote adolescent and family health and well being.

V. Application Review Information

Eligible applications in response to this announcement will be reviewed, in competition with other submitted applications, by a panel of independent peer reviewers and assessed according to the following criteria:

(1) Scientific Merit. Are the conceptual framework, design, methods, and analyses adequately developed and appropriate to the goals of the project? (25 points)

(2) Significance. Will a scientific advance result if the project is carried out? Does the project employ novel concepts, approaches, or methods? (25 points)

(3) Feasibility and Likelihood of Producing Meaningful Results. Are the plans for organizing and carrying out the project, including the responsibilities of key staff, the time line, and the proposed project period, adequately specified and appropriate? (20 points)

(4) Competency of Staff. Are the principal investigator, and other key research staff, appropriately trained and well suited to carry out this project? (10 points)

(5) Adequacy of Facilities and Resources. Are the facilities and resources of the applicant institution and other study sites adequate? (10 points)

(6) Adequacy of Budget. Is the budget reasonable and adequate in relation to the proposed project? (10 points)

Each of these criteria will be addressed and considered by the reviewers in assigning the overall score. Final grant award decisions will be made by the Deputy Assistant Secretary for Population Affairs on the basis of priority score, program relevance, and availability of funds.

VI. Award Administration Information

OPA does not release information about individual applications during the review process until final funding decisions have been made. When these decisions have been made, applicants will be notified by letter regarding the outcome of their applications. The official document notifying an applicant that an application has been approved and granted funding is the Notice of Grant Award, which specifies to the grantee the amount of money awarded, the purpose of the grant, and the terms and conditions of the grant award.

VII. Agency Contacts

Direct inquiries regarding programmatic issues to: Eugenia Eckard, Office of Population Affairs, 1101 Wootton Parkway, Suite 700, Rockville, MD 20852; (301) 594-4001; or via Email at eeckard@osophs.dhhs.gov.

Direct inquiries regarding fiscal and administrative matters to: Karen Campbell, Office of Grants Management, Office of Public Health and Science, 1101 Wootton Parkway, Suite 550, Rockville, MD 20852; (301) 594-0758; or via Email at kcampbell@osophs.dhhs.gov.

Dated: June 16, 2003.
Alma L. Golden,
Deputy Assistant Secretary for Population Affairs.

[FR Doc. 03-15579 Filed 6-19-03; 8:45 am]

BILLING CODE 4150-30-P